DEPARTMENT OF COMMERCE

National Oceanic and Atmospheric Administration

RIN 0648-XF536

Marine Mammals; File No. 21018

AGENCY: National Marine Fisheries Service (NMFS), National Oceanic and Atmospheric Administration (NOAA), Commerce.

ACTION: Notice; receipt of application.

SUMMARY: Notice is hereby given that Brent Stewart, Ph.D., Hubbs-SeaWorld Research Institute, 2595 Ingraham Street, San Diego, CA 92109 has applied in due form for a permit to conduct research on pinnipeds in California.

DATES: Written, telefaxed, or email comments must be received on or before August 17, 2017.

ADDRESSES: The application and related documents are available for review by selecting “Records Open for Public Comment” from the “Features” box on the Applications and Permits for Protected Species (APPS) home page, https://apps.nmfs.noaa.gov, and then selecting File No. 21018 from the list of available applications.

These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant requests a five-year permit to study three species of pinnipeds in California. The objectives of the research are to continue long-term research on the comparative ecology, demography, community ecology, foraging patterns, pathology and phenology of California pinnipeds and to further characterize the resource and habitats used by each species, including patterns of spatial and temporal similarities and differences California sea lions (Zalophus californianus), northern elephant seals (Mirounga angustirostris), and harbor seals (Phoca vitulina) would be captured and sampled at several sites including San Nicolas Island, San Miguel Island, Santa Rosa Island, Santa Cruz Island, Piedras Blancas, Cape San Martin, and Gorda. Some animals would only receive a flipper tag or a dye mark. Other animals would be physically or chemically restrained; measured and weighed; have a variety of samples taken, including: blood, skin, blubber, and mucus membrane swabs; and have tracking or data recording instruments attached. For proposed take numbers by species and location and details on sampling methodologies, see the application. The applicant has requested authorization for the unintentional research related mortality of up to four animals of each species annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 12, 2017.
Donna S. Wieting,
Director, Office of Protected Resources, National Marine Fisheries Service.

[FR Doc. 2017-15039 Filed 7-17-17; 8:45 am]

BILLING CODE 3510-22-P